NUCLEAR REGULATORY COMMISSION

[Docket No. 50-271; NRC-2010-0243; License No. DPR-28]

Entergy Nuclear Operations, Inc.; Entergy Nuclear Vermont Yankee, LLC; Vermont Yankee Nuclear Power Station; Request for Licensing Action

Notice is hereby given that by petitions dated January 12, 2010, from Mr. Michael Mulligan, February 8, 2010, from Mr. Raymond Shadis, and February 20, 2010, from Mr. Thomas Saporito have requested that pursuant to Title 10 of the Code of Federal Regulations (10 CFR), Section 2.206, “Requests for Action under this Subpart,” the U.S. Nuclear Regulatory Commission (NRC) take action with regard to the Vermont Yankee Nuclear Power Station.

Mr. Mulligan requested in his petition that (1) the radioactive leak into the environment of Vermont Yankee (VY) be immediately stopped and VY be immediately shutdown and all leaking paths be isolated and (2) VY disclose its preliminary “root cause analysis” and the NRC release its preliminary investigative report on this analysis before plant startup.

Mr. Shadis requested in his petition that the NRC (1) require VY to go into cold shutdown and depressurize all systems in order to slow or stop the leak, (2) act promptly to stop or mitigate the leak(s) and not wait until all issues raised by the New England Coalition are resolved, (3) require VY to reestablish its licensing basis by physically tracing records and reporting physical details of all plant systems that would be within scope as “Buried Pipes and Tanks” in NUREG-1801, “Generic Aging Lessons Learned (GALL) Report,” and under the requirements of 10 CFR 50.54, “Conditions of Licenses,” (4) investigate and determine why Entergy has been allowed to operate VY since 2002 without a working knowledge of all plant systems and why the NRC's Reactor Oversight Process (ROP) and review process for license renewal amendment did not detect this dereliction, (5) take notice of Entergy Nuclear Vermont Yankee's many maintenance and management failures (from 2000-2010) and the ROP's failure to detect them early and undertake a full diagnostic evaluation team inspection or NRC Inspection Procedure 95003, “Supplemental Inspection for Repetitive Degraded Cornerstones, Multiple Degraded Cornerstones, Multiple Yellow Inputs or One Red Input,” and (6) require Entergy VY to apply for an amendment to its license renewal that would address both aging analysis and aging management of all buried piping carrying or with the potential to carry radionuclides and/or the potential to interact with any safety or safety-related system.

Mr. Saporito requested in his petition that the NRC (1) order a “cold-shut-down” mode of operation for VY because of leaking radioactive tritium and (2) issue a confirmatory order modifying the NRC-issued license for VY so that the licensee must bring the nuclear reactor to a “cold-shut-down” mode of operation until the licensee can provide definitive reasonable assurance to the NRC, under affirmation, that the reactor will be operated in full compliance with the regulations in 10 CFR Part 50, “Domestic Licensing of Production and Utilization Facilities,” and Appendix A, “General Design Criteria for Nuclear Power Plants,” to 10 CFR Part 50, Criterion 60, “Control of Releases of Radioactive Materials to the Environment,” and Criterion 64, “Monitoring Radioactivity Releases,” and other NRC regulations and authority.

The requests are being treated pursuant to 10 CFR 2.206 of the Commission's regulations. The requests have been referred to the Director of the Office of Nuclear Reactor Regulation. As provided by 10 CFR 2.206, appropriate action will be taken on this consolidated petition within a reasonable time.

Each petitioner stated that the tritium leak is just one example of many maintenance and management failures at VY. All three raised a concern regarding what they perceive as the NRC's failure to examine the deficiencies at VY in an integrated manner. Although the individual petition was written to request enforcement action specifically because of the tritium leak, during each of the transcribed phone calls, each petitioner urged the NRC to take a broader view and assess operational and performance failures at VY collectively, instead of individually. This concern has met the criteria for review in accordance with Management Directive (MD) 8.11 “Review Process for 10 CFR 2.206 Petitions.”

Subsequently, the PRB made a recommendation to accept the consolidated petition for review for the following specific issues and concerns identified in the petitions and/or supplemented during the teleconferences:

(1) Increasing concentrations of radiocontaminants in the soil and groundwater at VY, as well as an increasing area of contamination, are manifest on a daily basis. VY risks aggravating the contamination by continuing to run the reactor at full power while attempting over a period of a month to triangulate the location of a presumed leak by drilling a series of test wells in the affected area.

(2) During the license renewal application proceeding, the licensee has averred that it was unaware of the existence of some buried pipes, now uncovered, and it has yet to discover their path and purpose.

(3) Entergy has, in 8 years of ownership, failed to learn and understand VY's design, layout, and construction. This failure to comprehend and understand the layout, function, and potentially the interaction of the plant's own piping systems constitutes a loss of design basis.

(4) The NRC's ROP has apparently failed to capture, anticipate, and prevent ongoing maintenance, engineering, quality assurance, and operation issues that have manifested themselves in a series of high-profile incidents since Entergy took over VY. The agency has repeatedly failed to detect root cause trends until they have, as in this instance, become grossly self-revealing.

(5) The NRC should ensure that Entergy has adequate decommissioning funds. The tritium leak will increase decommissioning costs because of the need for site radiological examination and soil remediation.

Copies of the petitions are available to the public from the NRC's Agencywide Documents Access and Management System (ADAMS) in the public Electronic Reading Room on the NRC Web site at http://www.nrc.gov/reading-rm/adams.html under ADAMS Accession Nos. ML100190688, ML100470430, and ML100621374, and are available for inspection at the Commission's Public Document Room, located at One White Flint North, 11555 Rockville Pike (first floor), Rockville, Maryland.

Dated at Rockville, Maryland this 25th day of June 2010.
For the Nuclear Regulatory Commission.
Eric J. Leeds,
Director, Office of Nuclear Reactor Regulation.

[FR Doc. 2010-16462 Filed 7-6-10; 8:45 am]

BILLING CODE 7590-01-P